DEPARTMENT OF THE TREASURY

Office of Foreign Assets Control

Additional Identifying Information Associated With Persons Whose Property and Interests in Property Are Blocked Pursuant to Executive Order 13712 of November 23, 2015, “Blocking Property of Certain Persons Contributing to the Situation in Burundi”

AGENCY: Office of Foreign Assets Control, Treasury.

ACTION: Notice.

SUMMARY: The U.S. Department of the Treasury's Office of Foreign Assets Control (OFAC) is publishing additional identifying information associated with the four individuals listed in the Annex to Executive Order 13712 of November 23, 2015, “Blocking Property of Certain Persons Contributing to the Situation in Burundi,” whose property and interests in property have been blocked.

FOR FURTHER INFORMATION CONTACT: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic and Facsimile Availability

OFAC's List of Specially Designated Nationals and Blocked Persons (“SDN List”) and additional information concerning OFAC sanctions programs are available from OFAC's Web site (www.treasury.gov/ofac). Certain general information pertaining to OFAC's sanctions programs is also available via facsimile through a 24-hour fax-on-demand service, tel.: 202/622-0077.

Background

On November 23, 2015, the President issued Executive Order 13712, “Blocking Property of Certain Persons Contributing to the Situation in Burundi” (the “Order”) pursuant to, inter alia, the International Emergency Economic Powers Act (50 U.S.C. 1701-06). The Order was effective at 12:01 a.m. eastern standard time on November 23, 2015.

The Annex to the Order lists four individuals whose property and interests in property are blocked pursuant to the Order. OFAC is publishing additional identifying information associated with those individuals.

The listings for these individuals on OFAC's SDN List appear as follows:

1. NDAYIRUKIYE, Cyrille; DOB 08 Jul 1954; POB Kiganda, Burundi; nationality Burundi; Gender Male; Passport DP0001029 (Burundi) issued 24 Oct 2011 expires 24 Oct 2016; Former Defense Minister (individual) [BURUNDI].

2. BUNYONI, Alain Guillaume (a.k.a. BUNYONI, Allain Guillaume), 143 Avenue Gasekebuye, Commune Urbaine de Musaga, Bujumbura, Bujumbura 1870, Burundi; DOB 02 Jan 1972; POB Bujumbura, Burundi; nationality Burundi; National ID No. 0201184751 (Burundi); Diplomatic Passport DP0001842 (Burundi) issued 08 Apr 2013 expires 08 Apr 2018; Minister of Public Security (individual) [BURUNDI].

3. BIZIMANA, Godefroid, Kinanira IV, Bujumbura, Burundi; DOB 23 Apr 1968; Diplomatic Passport DP0001520 (Burundi) issued 01 Aug 2012 expires 01 Aug 2017 (individual) [BURUNDI].

4. NIYOMBARE, Godefroid, Kinanira 4, Bujumbura, Bujumbura, Burundi; DOB 18 Oct 1969; POB Bujumbura, Burundi; nationality Burundi; Gender Male; Passport PD007079 (Burundi) issued 01 Jun 2010 expires 01 Jun 2015; National ID No. 0201CNI189976; Major General (individual) [BURUNDI].

Dated: November 25, 2015.
John E. Smith,
Acting Director, Office of Foreign Assets Control.

[FR Doc. 2015-30474 Filed 11-30-15; 8:45 am]

BILLING CODE 4810-AL-P